DEPARTMENT OF THE INTERIOR

Bureau of Ocean Energy Management

[MMAA104000]

Central Gulf of Mexico Planning Area (CPA) Outer Continental Shelf (OCS) Oil and Gas Lease Sale 235 (CPA Sale 235); Correction

AGENCY: Bureau of Ocean Energy Management (BOEM), Interior.

ACTION: Notice; correction.

SUMMARY: On February 6, 2015, BOEM published in the Federal Register the Final Notice of Sale (FNOS) for CPA Sale 235 (80 FR 6758). The FNOS refers to documents entitled “List of Blocks Available for Leasing” and “Unleased Split Blocks.” The referenced list and map were included in the FNOS Package, and the FNOS Package was made available at the BOEM address and Web site set forth in the FNOS. The list and map identifies blocks to be offered in CPA Sale 235; however, due to a clerical error, one block, South Marsh Island Area, North Addition, Block Number 242, was inadvertently omitted from the list and map.

FOR FURTHER INFORMATION CONTACT: Robert Samuels, Leasing Division Chief, robert.samuels@boem.gov.

SUPPLEMENTARY INFORMATION: In the Federal Register of February 6, 2015, in FR Doc. 2015-02273, on page 6759, the documents entitled “List of Blocks Available for Leasing” and “Unleased Split Blocks” are referenced. These documents have been corrected to include the information below, which has been inserted between the entries “South Marsh Island Area, North Addition, Block Number 241.” and “South Marsh Island Area, North Addition, Block Number 243.”

L

Y

Map/Official Protraction Diagram (OPD) Name

South Marsh Island Area, North Addition

Map/OPD Number

LA3D

Block Number

242

A/P

P

Available Federal Acreage

3,068.219971

Minimum Bid Per Acre

$25.00

Lease Term

5

Minimum Bid Per Block

$76,725

Rent Per Acre

$7.00

Bid System

RS20

Stipulation(s)

8

The corrected “List of Blocks Available for Leasing” is available at the BOEM address and Web site set forth in the FNOS.

Dated: February 18, 2015.
Abigail Ross Hopper,
Director, Bureau of Ocean Energy Management.

[FR Doc. 2015-03832 Filed 2-23-15; 8:45 am]

BILLING CODE 4310-MR-P